DEPARTMENT OF TRANSPORTATION

Federal Aviation Administration

Notice of Availability of the Federal Aviation Administration Record of Decision and Adoption of the Portions Specific to the Battle Area Complex Restricted Area R-2201 (BAX R-2201) and the Expand Restricted Area R-2205, Including the Digital Multi-Purpose Training Range (DMPTR R-2205), of the Final Environmental Impact Statement for Modernization and Enhancement of Ranges, Airspace, and Training Areas in the Joint Pacific Alaska Range Complex in Alaska

AGENCY: Federal Aviation Administration, DOT.

ACTION: Notice of record of decision.

SUMMARY: The Federal Aviation Administration (FAA) announces its decision to adopt the portions specific to the BAX R-2201 and DMPTR R-2205 of the United States Departments of the Army (Army) and Air Force's (USAF) Final Environmental Impact Statement (EIS) for the Modernization and Enhancement of Ranges, Airspace, and Training Areas in the Joint Pacific Alaska Range Complex (JPARC) in Alaska, EIS No. 20130181. In accordance with Section 102 of the National Environmental Policy Act of 1969 (“NEPA”), the Council on Environmental Quality's (“CEQ”) regulations implementing NEPA, and other applicable authorities, including The Federal Aviation Administration (FAA) Order 1050.1F, Environmental Impacts: Policies and Procedures, paragraph 8-2, and FAA Order JO 7400.2M, “Procedures for Handling Airspace Matters,” paragraph 32-2-3, the FAA has conducted an independent review and evaluation of the Army and the USAF's Final EIS for Modernization and Enhancement of Ranges, Airspace, and Training Areas in the JPARC in Alaska, dated June 2013. As a cooperating agency with responsibility for approving special use airspace (SUA), the FAA provided subject matter expertise and coordinated with the USAF and Army during the environmental review process, including preparation of the Draft EIS and the Final EIS. Based on its independent review and evaluation, the FAA has determined the Final EIS, including its supporting documentation, as incorporated by reference, and other supporting documentation incorporated by reference for FAA's Written Re-Evaluation and Adoption of the Final EIS adequately assesses and discloses the environmental impacts of the for Modernization and Enhancement of Ranges, Airspace, and Training Areas in the JPARC in Alaska. FAA is authorized to adopt the Final EIS, Adoption. Accordingly, the FAA adopts the Final EIS, and takes full responsibility for the scope and content that addresses the proposed changes to SUA for JPARC.

FOR FURTHER INFORMATION CONTACT: Paula Miller, Airspace Policy and Regulations Group, Office of Airspace Services, Federal Aviation Administration, 800 Independence Avenue SW, Washington, DC 20591; email: Paula.Miller@faa.gov; telephone: (202) 267-7378.

SUPPLEMENTARY INFORMATION:

Background

In March 2012, in accordance with NEPA and its implementing regulations, the USAF and Army released a Draft EIS. The Draft EIS presented the potential environmental consequences of the USAF and Army's proposal to modernize and enhance JPARC ranges by analyzing the military training activities at JPARC, Alaska. As a result of the FAA aeronautical review process, and public, agency, and tribal comments during the 111-day public comment period on the Draft EIS, the USAF, FAA, other federal and state agencies, and tribal governments have consulted to mitigate concerns while continuing to meet national defense training requirements. The USAF and Army are the proponents for the JPARC Modernization and were the lead agencies for the preparation of the Final EIS, which was issued in June 2013. The FAA is a cooperating agency responsible for approving SUA as defined in 40 CFR 1508.5.

The FAA has independently evaluated the JPARC Final EIS and the accompanying SUA proposals. FAA previously issued a Record of Decision (ROD) for the USAF SUA proposals because they were ripe for a decision while the Army SUA proposals are currently still undergoing aeronautical processing and development. The Army SUA proposals are now ripe for a decision; therefore, the scope and extent of FAA's ROD is only for the Army SUA proposals.

The USAF and Army issued one ROD. The ROD lists the Army and USAF actions and decisions separately. The ROD includes an Army Decision, signed July 30, 2013, and an USAF Decision signed August 6, 2013. The Army selected the preferred alternatives for BAX R-2201, DMPTR R-2205, and Unmanned Aerial Vehicle (UAV) Access. The Army/USAF ROD also lists mitigation measures by agency and specific action. The FAA has coordinated with the Army on UAV Access on an alternative solution of implementing Certificates of Authorization, since the activity does not qualify for a restricted area.

Implementation

After evaluating the public comments received, the aeronautical studies, and the environmental analysis, the FAA is establishing BAX R-2201and expanding DMPTR R-2205. On March 6, 2017, the FAA published a notice of proposed rulemaking (NPRM) proposing to establish BAX R-2201 in the Federal Register (82 FR 12529). In response to public comments expressing concerns over the impact to general aviation aircraft, the FAA subsequently published a Supplemental NPRM in the Federal Register on January 11, 2018 (83 FR 1316), that would reduce the overall size of the proposed BAX R-2201 by 50 percent. On March 6, 2019, the FAA published a NRPM (82 FR 12526) to expand DMPTR R-2205. Minor changes to reduce the size of R-2205 were made from what was analyzed in the FEIS to improve aviation safety and reduce the burden on non-participating traffic to help civil pilots remain well clear of hazardous activities while following the river during VFR flights and to avoid the Alaska Pipeline.

FAA. The August 29, 2019 Written Re-Evaluation/Adoption/ROD is available on the FAA website and can be viewed at https://www.faa.gov/air_traffic/environmental_issues/.

Right of Appeal

The Written Re-evaluation, Adoption, and ROD for the changes to the JPARC MOAs constitutes a final order of the FAA Administrator and is subject to exclusive judicial review under 49 U.S.C. 46110 by the U.S. Circuit Court of Appeals for the District of Columbia or the U.S. Circuit Court of Appeals for the circuit in which the person contesting the decision resides or has its principal place of business. Any party having substantial interest in this order may apply for review of the decision by filing a petition for review in the appropriate U.S. Court of Appeals no later than 60 days after the date of this notice in accordance with the provisions of 49 U.S.C. 46110.

Issued in Des Moines, WA, on August 26, 2019.
B.G. Chew,
Acting Manager, Operations Support Group, Western Service Center, Federal Aviation Administration.

[FR Doc. 2019-19105 Filed 9-4-19; 8:45 am]

BILLING CODE 4910-13-P